Executive Order 13378 of May 12, 2005

Amendments to Executive Order 12788 Relating to the Defense Economic Adjustment Program

By the authority vested in me as President by the Constitution and the laws of the United States of America, including 10 U.S.C. 2391 and the Defense Economic Adjustment, Diversification, Conversion, and Stabilization Act of 1990, enacted as Division D, section 4001 et seq., of the National Defense Authorization Act for Fiscal Year 1991, Public Law 101-510, and in order to update the Defense Economic Adjustment Program, it is hereby ordered that Executive Order 12788 of January 15, 1992, as amended, is further amended as follows:

Section 1. The text of section 2 of Executive Order 12788 is revised to read as follows: “The Defense Economic Adjustment Program shall (1) assist substantially and seriously affected communities, businesses, and workers from the effects of major Defense base closures, realignments, and Defense contract-related adjustments, and (2) assist State and local governments in preventing the encroachment of civilian communities from impairing the operational utility of military installations.”

Sec. 2. (a) The text of section 3(c) is amended by deleting “and communities” and inserting in lieu thereof “communities, and businesses”;

(b) The text of section 3(l) is amended by deleting “and” after the semicolon;

(c) The text of section 3(m) is amended by adding “and” after “diminish;” and

(d) A new section 3(n) is added to read: “(n) Encourage resolution of regulatory issues that impede encroachment prevention and local economic adjustment efforts.”

Sec. 3. (a) Section 4(a) is amended by: (i) deleting “(19) Director of the United States Arms Control and Disarmament Agency;” (ii) deleting “(21) Director of the Federal Emergency Management Agency;” and (iii) renumbering the remaining subsections listing the officials on the Economic Adjustment Committee (the “Committee”) accordingly;

(b) The text of section 4(b) is revised to read as follows: “The Secretary of Defense, or the Secretary's designee, shall chair the Committee.”; and

(c) The text of section 4(c) is revised to read as follows: “The Secretaries of Labor and Commerce shall serve as Vice Chairmen of the Committee. The Vice Chairmen shall co-chair the Committee in the absence of both the Chairman and the Chairman's designee and may also preside over meetings of designated representatives of the concerned executive agencies.”

Sec. 4. This order is not intended to, and does not, create any right or benefit, substantive or procedural, enforceable by any party at law or in equity against the United States, its departments, agencies, entities, officers, employees, agents, or any other person.

B

THE WHITE HOUSE,

May 12, 2005.

[FR Doc. 05-9892

Filed 5-13-05; 11:31 am]

Billing code 3195-01-P